DEPARTMENT OF ENERGY

Federal Energy Regulatory Commission

[Project No. 6240-064]

Watson Associates; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 6240-064.

c. Date filed: August 27, 2021.

d. Applicant: Watson Associates.

e. Name of Project: Watson Dam Project.

f. Location: On the Cocheco River in Strafford County, New Hampshire. The project does not occupy any federal land.

g. Filed Pursuant to: Federal Power Act 16 U.S.C. 791(a)-825(r).

h. Applicant Contact: Mr. John Webster, Watson Associates, P.O. Box 178, South Berwick, ME 03908; Phone at (207) 384-5334, or email at Hydromagnt@gwi.net.

i. FERC Contact: Michael Watts at (202) 502-6123, or michael.watt@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: October 26, 2021.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Watson Dam Project (P-6240-064).

m. The application is not ready for environmental analysis at this time.

n. Project Description: The existing Watson Dam Project consists of: (1) A 296.75-foot-long, 12-foot-high concrete gravity dam that includes the following sections: (i) A 54-foot-long right abutment; (ii) a 111-foot-long right spillway section with 24-inch-high flashboards and a crest elevation of 110.6 feet mean sea level (msl) at the top of the flashboards; (iii) an 11.5-foot-long, 11.25-foot-wide concrete spillway center pier; (iv) an 80-foot-long left spillway section with 24-inch-high flashboards and a crest elevation of 110.6 feet msl at the top of the flashboards; and (v) a 29-foot-long left abutment; (2) an impoundment with a surface area of 54 acres and a storage capacity of 300 acre-feet at an elevation of 110.6 feet msl; (3) a 29-foot-long, 10-foot-high intake structure in the left abutment that is equipped with a headgate and trashrack with 2-inch clear bar spacing; (4) a 26-foot-long, 22-foot-wide wood and steel powerhouse containing one 265-kilowatt vertical Flygt submersible turbine-generator unit; (5) a 400-foot-long, 20-foot-wide tailrace that discharges into the Cocheco River; (6) a generator lead, transformer, and transmission line that connect the project to the local utility distribution system; and (7) appurtenant facilities.

Watson Associates voluntarily operates the project in a run-of-river mode using an automatic pond level control system to regulate turbine operation, such that outflow from the project approximates inflow. The project creates an approximately 250-foot-long and a 400-foot-long bifurcated bypassed reaches of the Cocheco River.

Downstream fish passage is provided by a bypass pipe located on the left side of the dam. There is no upstream fish passage facility at the project.

The current license requires a minimum flow release of 83 cubic feet per second (cfs), or inflow to the impoundment, whichever is less from the dam to protect and enhance aquatic resources in the Cocheco River. The average annual generation of the project is approximately 1,100 megawatt-hours.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-6240). For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

p. Procedural schedule: The application will be processed according to the following preliminary schedule. Revisions to the schedule will be made as appropriate.

Issue Deficiency Letter (if necessary) October 2021

Request Additional Information October 2021

Issue Scoping Document 1 for comments January 2022

Issue Acceptance Letter February 2022

Request Additional Information (if necessary) February 2022

Issue Scoping Document 2 March 2022

Issue Notice of Ready for Environmental Analysis March 2022

q. Final amendments to the application must be filed with the Commission no later than 30 days from the issuance date of the notice of ready for environmental analysis.

Dated: September 10, 2021.
Kimberly D. Bose,
Secretary.

[FR Doc. 2021-20003 Filed 9-15-21; 8:45 am]

BILLING CODE 6717-01-P